ENVIRONMENTAL PROTECTION AGENCY

[FRL-7454-3]

National Advisory Council on Environmental Policy and Technology (NACEPT); Superfund Subcommittee Meeting

AGENCY: Environmental Protection Agency (EPA).

ACTION: Notification of public advisory NACEPT subcommittee on Superfund; open meeting.

SUMMARY: Pursuant to the Federal Advisory Committee Act, Pub. L. 92-463, notices is hereby given that the Superfund Subcommittee, a subcommittee of the National Advisory Council on Environmental Policy and Technology (NACEPT), will meet on the date and time described below. The meeting is open to the public. Seating will be on a first-come basis and limited time will be provided for public comment on each day.

DATES: The meeting will be held from 1:30 p.m. to 7 p.m. on March 10, 2003; from 8 a.m. to 5:30 p.m. on March 11, 2003.

ADDRESSES: The meeting will take place at the Phoenix Pointe Hilton Squaw Peak Resort, 7677 North 16th Street Phoenix, AZ 85020.

FOR FURTHER INFORMATION CONTACT: Angelo Carasea, Designated Federal Officer for the NACEPT Superfund Subcommittee, Office of Emergency and Remedial Response, Office of Solid Waste and Emergency Response, MC 5204G, 1200 Pennsylvania Ave., NW., Washington, DC, (703) 603-8828.

SUPPLEMENTARY INFORMATION:

Agenda

This fourth meeting of the Superfund Subcommittee will involve reports from the Subcommittee's working groups about their activities since the last Subcommittee meeting in January 2003. The agenda for the meeting will be available one week prior to the meeting's occurrence.

Public Attendance

The public is welcome to attend all portion of the meeting. Members of the public who plan to file written statements and/or make brief (suggested 5-minute limit) oral statements at the public sessions are encouraged to contact the Designated Federal Official. Each day will have one public comment period.

Dated: February 14, 2003.
Angelo Carasea,
Designated Federal Officer, NACEPT Superfund Subcommittee.

[FR Doc. 03-4307 Filed 2-20-03; 8:45 am]

BILLING CODE 6560-50-P